DEPARTMENT OF ENERGY

Federal Energy Regulatory Commission

Combined Notice of Filings

Take notice that the Commission has received the following Natural Gas Pipeline Rate and Refund Report filings:

Filings Instituting Proceedings

Docket Numbers: RP12-561-000.

Applicants: Rockies Express Pipeline LLC.

Description: Annual Incidental Purchases and Sales Report of Rockies Express Pipeline LLC.

Filed Date: 3/30/12.

Accession Number: 20120330-5140.

Comments Due: 5 p.m. ET 4/11/12.

Docket Numbers: RP12-562-000.

Applicants: Gulf South Pipeline Company, LP.

Description: QEP 37657-15 Amendment to Negotiated Rate Agreement filing to be effective 4/1/2012.

Filed Date: 3/30/12.

Accession Number: 20120330-5142.

Comments Due: 5 p.m. ET 4/11/12.

Docket Numbers: RP12-563-000.

Applicants: Gulf South Pipeline Company, LP.

Description: QEP 37657-14 Amendment to Negotiated Rate Agreement filing to be effective 5/1/2012.

Filed Date: 3/30/12.

Accession Number: 20120330-5158.

Comments Due: 5 p.m. ET 4/11/12.

Docket Numbers: RP12-564-000.

Applicants: Gulf South Pipeline Company, LP.

Description: Tenaska 39395-2 Amendment to Negotiated Rate Agreement filing to be effective 4/1/2012.

Filed Date: 3/30/12.

Accession Number: 20120330-5164.

Comments Due: 5 p.m. ET 4/11/12.

Docket Numbers: RP12-565-000.

Applicants: Gulf South Pipeline Company, LP.

Description: Tenaska 39396-2 Amendment to Negotiated Rate Agreement to be effective 4/1/2012.

Filed Date: 3/30/12.

Accession Number: 20120330-5168.

Comments Due: 5 p.m. ET 4/11/12.

Docket Numbers: RP12-566-000.

Applicants: East Tennessee Natural Gas, LLC.

Description: East Tennessee Natural Gas, LLC submits its cashout report for the period November 2010 through October 2011.

Filed Date: 3/30/12.

Accession Number: 20120330-5170.

Comments Due: 5 p.m. ET 4/11/12.

Docket Numbers: RP12-567-000.

Applicants: Gulf South Pipeline Company, LP.

Description: HK 37367 to Sequent 39754 & 39755 Capacity Release Negotiated Rate Agreement filing to be effective 5/1/2012.

Filed Date: 3/30/12.

Accession Number: 20120330-5175.

Comments Due: 5 p.m. ET 4/11/12.

Docket Numbers: RP12-568-000.

Applicants: Vector Pipeline L.P.

Description: Annual Fuel Use Report of Vector Pipeline L.P.

Filed Date: 3/30/12.

Accession Number: 20120330-5176.

Comments Due: 5 p.m. ET 4/11/12.

Docket Numbers: RP12-569-000.

Applicants: Gulf South Pipeline Company, LP.

Description: HK 37367 to Sequent 39756 Capacity Release Negotiated Rate Agreement filing to be effective 4/1/2012.

Filed Date: 3/30/12.

Accession Number: 20120330-5178.

Comments Due: 5 p.m. ET 4/11/12.

Docket Numbers: RP12-570-000.

Applicants: Trailblazer Pipeline Company LLC.

Description: Trailblazer Pipeline Company LLC's Expansion Fuel Filing.

Filed Date: 3/30/12.

Accession Number: 20120330-5180.

Comments Due: 5 p.m. ET 4/11/12.

Docket Numbers: RP12-571-000.

Applicants: Transcontinental Gas Pipe Line Company, LLC.

Description: Releasable Secondary Capacity to be effective 5/1/2012.

Filed Date: 3/30/12.

Accession Number: 20120330-5183.

Comments Due: 5 p.m. ET 4/11/12.

Docket Numbers: RP12-572-000.

Applicants: TransColorado Gas Transmission Company LLC.

Description: Negotiated Rate 2012-03-30 Patara to be effective 4/1/2012 under RP12-572 Filing Type: 570.

Filed Date: 3/30/12.

Accession Number: 20120330-5212.

Comments Due: 5 p.m. ET 4/11/12.

Docket Numbers: RP12-573-000.

Applicants: Millennium Pipeline Company, LLC.

Description: Negotiated Rate Service Agreement—Contract Nos. 130060, 130067 and 130073 to be effective 5/1/2012.

Filed Date: 3/30/12.

Accession Number: 20120330-5271

Comments Due: 5 p.m. ET 4/11/12.

Docket Numbers: RP12-574-000.

Applicants: ANR Pipeline Company.

Description: Chevron FTS-1 Agreement to be effective 4/1/2012.

Filed Date: 3/30/12.

Accession Number: 20120330-5277.

Comments Due: 5 p.m. ET 4/11/12.

Docket Numbers: RP12-575-000.

Applicants: Bison Pipeline LLC.

Description: Bison Pipeline LLC Company Use Gas Annual Report.

Filed Date: 3/30/12.

Accession Number: 20120330-5278.

Comments Due: 5 p.m. ET 4/11/12.

Docket Numbers: RP12-576-000.

Applicants: Algonquin Gas Transmission, LLC.

Description: ConEd Release to DTE 2012-04-01 to be effective 4/1/2012.

Filed Date: 3/30/12.

Accession Number: 20120330-5341.

Comments Due: 5 p.m. ET 4/11/12.

Docket Numbers: RP12-577-000.

Applicants: Algonquin Gas Transmission, LLC.

Description: VPEM Negotiated Rate—contract 510294 and 510295 to be effective 4/1/2012.

Filed Date: 3/30/12.

Accession Number: 20120330-5348.

Comments Due: 5 p.m. ET 4/11/12.

Docket Numbers: RP12-578-000.

Applicants: Columbia Gas Transmission, LLC.

Description: Negotiated Rate Service Agreement—Hayden Harper to be effective 4/1/2012.

Filed Date: 3/30/12.

Accession Number: 20120330-5358.

Comments Due: 5 p.m. ET 4/11/12.

Docket Numbers: RP12-579-000.

Applicants: Iroquois Gas Transmission System, L.P.

Description: 03/30/12 Negotiated Rates—ConocoPhillips Company to be effective 4/1/2012.

Filed Date: 3/30/12.

Accession Number: 20120330-5380.

Comments Due: 5 p.m. ET 4/11/12.

Docket Numbers: RP12-580-000.

Applicants: Cheyenne Plains Gas Pipeline Company, L.L.C.

Description: CPG Annual FL&U to be effective 5/1/2012.

Filed Date: 3/30/12.

Accession Number: 20120330-5381.

Comments Due: 5 p.m. ET 4/11/12.

Docket Numbers: RP12-581-000.

Applicants: Big Sandy Pipeline, LLC.

Description: Big Sandy-EQT Capacity Release Waiver Request to be effective N/A.

Filed Date: 3/30/12.

Accession Number: 20120330-5419.

Comments Due: 5 p.m. ET 4/9/12.

Docket Numbers: RP12-582-000.

Applicants: Colorado Interstate Gas Company LLC.

Description: NNT Balancing Point Enhancement to be effective 5/1/2012.

Filed Date: 3/30/12.

Accession Number: 20120330-5435.

Comments Due: 5 p.m. ET 4/11/12.

Docket Numbers: RP12-583-000.

Applicants: Texas Gas Transmission, LLC.

Description: Negotiated Rate Agreement Filing—TVA 32147 to be effective 4/1/2012.

Filed Date: 4/2/12.

Accession Number: 20120402-5063.

Comments Due: 5 p.m. ET 4/16/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-571-001.

Applicants: Transcontinental Gas Pipe Line Company.

Description: Amendment to Filing—Releaseable Secondary Capacity to be effective 8/1/2012.

Filed Date: 3/30/12.

Accession Number: 20120330-5446.

Comments Due: 5 p.m. ET 4/11/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 2, 2012.
Nathaniel J. Davis, Sr.,
Deputy Secretary.

[FR Doc. 2012-8307 Filed 4-5-12; 8:45 am]

BILLING CODE 6717-01-P